NUCLEAR REGULATORY COMMISSION

Meeting Postponement: USEC American Centrifuge Plant

AGENCY: Nuclear Regulatory Commission (NRC).

ACTION: Meeting postponement.

SUMMARY: The NRC is postponing the public scoping meeting for the proposed USEC Inc. American Centrifuge Plant that was to be held on November 15, 2004. The original meeting announcement appeared in the Federal Register on October 15, 2004 (69 FR 61268).

On October 25, 2004, the NRC initiated an additional security review, by agency experts, of publicly available documents to ensure that potentially sensitive information is removed from the agency Web site. During this review, ADAMS, the NRC's on-line document library, will be temporarily unavailable to the public. This meeting postponement is appropriate to allow members of the public adequate access to USEC Inc.’s license application and environmental report before the scoping meeting. After the documents related to this application are made publically available the NRC will announce a new meeting.

FOR FURTHER INFORMATION CONTACT: For general or technical information associated with the license review of the USEC Inc., application, please contact Yawar Faraz at (301) 415-8113. For general information on the NRC NEPA process, or the environmental review process related to the USEC Inc. application, please contact Matthew Blevins at (301) 415-7684.

Signed in Rockville, MD, this 2nd day of November, 2004.
For the Nuclear Regulatory Commission.
B. Jennifer Davis,
Chief, Environmental and Low-Level Waste Section, Division of Waste Management and Environmental Protection, Office of Nuclear Material Safety and Safeguards.

[FR Doc. 04-24805 Filed 11-5-04; 8:45 am]

BILLING CODE 7590-01-P